FEDERAL COMMUNICATIONS COMMISSION

47 CFR Part 27

[WT Docket Nos. 03-66; 03-67; 02-68; IB Docket No. 02-364; ET Docket No. 00-258; FCC 08-83]

Facilitating the Provision of Fixed and Mobile Broadband Access, Educational and Other Advanced Services in the 2150-2162 and 2500-2690 MHz Bands; Reviewing of the Spectrum Sharing Plan Among Non-Geostationary Satellite Orbit Mobile Satellite Service Systems in the 1.6/2.4 GHz Bands

AGENCY: Federal Communications Commission.

ACTION: Notice of proposed rulemaking; extension of comment period.

SUMMARY: In this document, the Commission extends the comment and reply comment deadlines. This action is taken in order to provide a limited extension to serve the public interest by allowing parties to discuss the complex issues at stake, develop consensus approaches where possible, and prepare thorough comments while ensuring that the proceeding is expeditiously resolved and to promote the Commission's goal of encouraging deployment of wireless broadband networks over EBS and BRS spectrum, by facilitating a consensus among interested parties on the relevant issues.

DATES: Submit comments on or before September 22, 2008. Submit reply comments on or before October 22, 2008.

ADDRESSES: Federal Communications Commission, 445 12th Street, SW., Washington, DC 20554. You may submit comments, identified by DA 08-1523, or by WT Docket No. 03-66, RM-10586; WT Docket No. 03-67; WT Docket No. 02-68, RM-9718, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: (202) 418-0530 or TTY: (202) 418-0432.

For detailed instructions for submitting comments and additional information on the rulemaking process, see the SUPPLEMENTARY INFORMATION section of this document.

FOR FURTHER INFORMATION CONTACT: John Schauble, Deputy Chief, Broadband Division, Wireless Telecommunications Bureau, Federal Communications Commission, 445 12th Street, SW., Washington, DC 20554, at (202) 418-0797 or via the Internet to John.Schauble@fcc.gov.

SUPPLEMENTARY INFORMATION: This is a summary of an Order, DA 08-1523, adopted and released by the FCC on June 26, 2008, in WT Docket Nos. 03-66, RM-10586; 03-67, and 02-68, RM-9718. The full text of this document is available for inspection and copying during normal business hours in the FCC Reference Information Center, Room CY-A257, 445 12th Street, SW., Washington, DC 20554. The complete text may be purchased from the Commission's duplicating contractor, Best Copy and Printing, Inc. (BCPI), Portals II, 445 12th Street, SW., Room CY-B402, Washington, DC 20554, (202) 488-5300, facsimile (202) 488-5563, or via e-mail at fcc@bcpiweb.com. The complete text is also available on the Commission's Web site at http://wireless.fcc.gov/edocs public/attachment/DA 08-1523A1doc. This full text may also be downloaded at: http://wireless.fcc.gov/releases.html. Alternative formats (computer diskette, large print, audio cassette, and Braille) are available by contacting Brian Millin at (202) 418-7426, TTY (202) 418-7365, or via e-mail to bmillin@fcc.gov.

Summary of the Order

1. On March 20, 2008, the Commission released the Broadband Radio Service/Educational Broadband Service Second Further Notice of Proposed Rulemaking (BRS/EBS 2nd FNPRM), FCC 08-83. In the BRS/EBS 2nd FNPRM, comments were due on or before July 7, 2008, and reply comments were due on or before August 6, 2008. On May 8, 2008, a summary of the BRS/EBS 2nd FNPRM was published in the Federal Register (73 FR 26067, May 8, 2008).

2. On June 13, 2008, National EBS Association (“NEBSA”), formerly known as the National ITFS Association (NIA) and the Catholic Television Network (“CTN”) filed a motion for extension of time on June 13, 2008, to extend by 75 days the dates for filing comments and reply comments in the proceeding. NEBSA and CTN state that the comment dates “fall in the middle of the summer recess period for virtually all schools, colleges and universities, making it difficult for NEBSA, CTN, EBS licensees and other educators to coordinate their response to the important issues raised in this proceeding.” The Wireless Communications Association International, Inc. supports this request. No party has opposed the request.

3. It is the policy of the Commission that extensions of time are not routinely granted pursuant to 47 CFR 1.46(a). Such extensions may be warranted when, among other reasons, the additional time will serve the public interest. In the present instance, we grant NEBSA and CTN's motion for extension of time by extending by 75 days the deadlines to file comments and reply comments in the proceeding.

Ordering Clauses

4. Accordingly, it is ordered that, pursuant to section 4(i) of the Communications Act of 1934, as amended, 47 U.S.C. 154(i), and § 1.46 of the Commission's rules, 47 CFR 1.46, that the Motion for Extension of Time filed by National EBS Association and the Catholic Television Network on June 13, 2008 is granted, and the time for filing comments in this proceeding is extended to September 22, 2008, and the time for filing reply comments in this proceeding is extended to October 22, 2008.

5. This action is taken under delegated authority pursuant to sections 0.131 and 0.331 of the Commission's rules, 47 CFR 0.131, 0.331.

Federal Communications Commission.
Joel D. Taubenblatt,
Deputy Chief, Wireless Telecommunications Bureau.

[FR Doc. E8-15445 Filed 7-7-08; 8:45 am]

BILLING CODE 6712-01-P